COMMITTEE FOR THE IMPLEMENTATION OF TEXTILE AGREEMENTS

Announcement of Import Restraint Limits for Certain Cotton, Wool, Man-Made Fiber, Silk Blend and Other Vegetable Fiber Textiles and Textile Products Produced or Manufactured in the Republic of Korea

October 8, 2002.

AGENCY: Committee for the Implementation of Textile Agreements (CITA).

ACTION: Issuing a directive to the Commissioner of Customs establishing limits.

EFFECTIVE DATE: January 1, 2003.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The import restraint limits for textile products, produced or manufactured in Korea and exported during the period January 1, 2003 through December 31, 2003 are based on limits notified to the Textiles Monitoring Body pursuant to the Uruguay Round Agreement on Textiles and Clothing (ATC).

In the letter published below, the Chairman of CITA directs the Commissioner of Customs to establish the 2003 limits.

A description of the textile and apparel categories in terms of HTS numbers is available in the CORRELATION: Textile and Apparel Categories with the Harmonized Tariff Schedule of the United States (see Federal Register notice 66 FR 65178, published on December 18, 2001). Information regarding the 2003 CORRELATION will be published in the Federal Register at a later date.

James C. Leonard III,
Chairman, Committee for the Implementation of Textile Agreements.

Committee for the Implementation of Textile Agreements

October 8, 2002.

Commissioner of Customs,

Department of the Treasury, Washington, DC 20229.

Dear Commissioner: Pursuant to section 204 of the Agricultural Act of 1956, as amended (7 U.S.C. 1854); Executive Order 11651 of March 3, 1972, as amended; and the Uruguay Round Agreement on Textiles and Clothing (ATC), you are directed to prohibit, effective on January 1, 2003, entry into the United States for consumption and withdrawal from warehouse for consumption of cotton, wool, man-made fiber, silk blend and other vegetable fiber textiles and textile products in the following categories, produced or manufactured in the Republic of Korea and exported during the twelve-month period beginning on January 1, 2003 and extending through December 31, 2003, in excess of the following levels of restraint:

Category | Twelve-month restraint limit
Group I |
200-220, 224-V ¹, 224-O ², 225-227, 300-326, 360-363, 369pt., ³, 400-414, 469pt., ⁴, 603, 604, 611-620, 625-629, 666pt. ⁵, as a group | 253,720,844 square meters equivalent.
Sublevels within Group I |
200 | 561,429 kilograms.
201 | 3,457,628 kilograms.
218 | 11,380,348 square meters.
219 | 10,362,594 square meters.
224-V | 13,063,634 square meters.
300/301 | 3,817,516 kilograms.
313 | 62,212,568 square meters.
314 | 34,687,000 square meters.
315 | 20,582,834 square meters.
317/326 | 23,119,807 square meters.
363 | 1,332,334 numbers.
410 | 3,846,388 square meters.
604 | 491,879 kilograms.
611 | 4,552,140 square meters.
613/614 | 7,586,898 square meters.
617 | 6,291,576 square meters.
619/620 | 102,373,098 square meters.
624 | 11,102,779 square meters.
625/626/627/628/629 | 19,422,460 square meters.
Group II |
237, 239pt. ⁶, 331pt. ⁷, 332-348, 351, 352, 359pt. ⁸, 433-438, 440-448, 459-W ⁹, 459pt. ¹⁰, 631pt. ¹¹, 633-648, 651, 652, 659-H ¹², 659-S ¹³ and 659pt. ¹⁴, as a group | 578,811,286 square meters equivalent.
Sublevels within Group II |
237 | 75,497 dozen.
239pt. | 305,271 kilograms.
333/334/335 | 341,411 dozen of which not more than 174,500 dozen shall be in Category 335.
336 | 72,150 dozen.
338/339 | 1,517,380 dozen.
340 | 789,038 dozen of which not more than 409,694 dozen shall be in Category 340-D ¹⁵.
341 | 205,830 dozen.
342/642 | 274,411 dozen.
345 | 147,411 dozen.
347/348 | 561,429 dozen.
351/651 | 288,275 dozen.
352 | 224,328 dozen.
433 | 14,504 dozen.
434 | 7,439 dozen.
435 | 38,152 dozen.
436 | 16,151 dozen.
438 | 64,753 dozen.
440 | 206,758 dozen.
442 | 54,579 dozen.
443 | 322,056 numbers.
444 | 59,475 numbers.
445/446 | 54,411 dozen.
447 | 92,830 dozen.
448 | 38,397 dozen.
459-W | 103,865 kilograms.
631pt. | 76,980 dozen pairs.
633/634/635 | 1,391,680 dozen of which not more than 157,813 dozen shall be in Category 633 and not more than 588,121 dozen shall be in Category 635.
636 | 305,832 dozen.
638/639 | 5,418,295 dozen.
640-D ¹⁶ | 3,264,604 dozen.
640-O ¹⁷ | 2,720,502 dozen.
641 | 1,105,410 dozen of which not more than 41,753 dozen shall be in Category 641-Y ¹⁸.
643 | 818,942 numbers.
644 | 1,232,061 numbers.
645/646 | 3,739,567 dozen.
647/648 | 1,438,155 dozen.
659-H | 1,509,879 kilograms.
659-S | 225,828 kilograms.
Group III-only 852 | 13,315,835 square meters equivalent.
Levels not in a group
845 | 2,315,056 dozen.
846 | 825,385 dozen.
¹ Category 224-V: only HTS numbers 5801.21.0000, 5801.23.0000, 5801.24.0000, 5801.25.0010, 5801.25.0020, 5801.26.0010, 5801.26.0020, 5801.31.0000, 5801.33.0000, 5801.34.0000, 5801.35.0010, 5801.35.0020, 5801.36.0010 and 5801.36,0020.
²Category 224-O: all remaining HTS numbers in Category 224.
³ Category 369pt.: all HTS numbers except 4202.12.4000, 4202.12.8020, 4202.12.8060, 4202.22.4020, 4202.22.4500, 4202.22.8030, 4202.32.4000, 4202.32.9530, 4202.92.0505, 4202.92.1500, 4202.92.3016, 4202.92.6091, 5601.10.1000, 5601.21.0090, 5701.90.1020, 5701.90.2020, 5702.10.9020, 5702.39.2010, 5702.49.1020, 5702.49.1080, 5702.59.1000, 5702.99.1010, 5702.99.1090, 5705.00.2020, 5805.00.3000, 5807.10.0510, 5807.90.0510, 6301.30.0010, 6301.30.0020, 6302,51.1000, 6302.51.2000, 6302.51.3000, 6302.51.4000, 6302.60.0010, 6302.60.0030, 6302.91.0005, 6302.91.0025, 6302.91.0045, 6302.91.0050, 6302.91.0060, 6303.11.0000, 6303.91.0010, 6303.91.0020, 6304.91.0020, 6304.92.0000, 6305.20.0000, 6306.11.0000, 6307.10.1020, 6307.10.1090, 6307.90.3010, 6307.90.4010, 6307.90.5010, 6307.90.8910, 6307.90.8945, 6307.90.9882, 6406.10.7700, 9404.90.1000, 9404.90.8040 and 9404.90.9505.
⁴ Category 469pt.: all HTS numbers except 5601.29.0020, 5603.94.1010, 6304.19.3040, 6304.91.0050, 6304.99.1500, 6304.99.6010, 6308.00.0010 and 6406.10.9020.
⁵ Category 666pt.: all HTS numbers except 5805.00.4010, 6301.10.0000, 6301.40.0010, 6301.40.0020, 6301.90.0010, 6302.53.0010, 6302.53.0020, 6302.53.0030, 6302.93.1000, 6302.93.2000, 6303.12.0000, 6303.19.0010, 6303.92.1000, 6303.92.2010, 6303.92.2020, 6303.99.0010, 6304.11.2000, 6304.19.1500, 6304.19.2000, 6304.91.0040, 6304.93.0000, 6304.99.6020, 6307.90.9884, 9404.90.8522 and 9404.90.9522.
⁶ Category 239pt.: only HTS number 6209.20.5040 (diapers).
⁷ Category 331pt.: all HTS numbers except 6116.10.1720, 6116.10.4810, 6116.10.5510, 6116.10.7510, 6116.92.6410, 6116.92.6420, 6116.92.6430, 6116.92.6440, 6116.92.7450, 6116.92.7460, 6116.92.7470, 6116.92.8800, 6116.92.9400 and 6116.99.9510.
⁸ Category 359pt.: all HTS numbers except 6115.19.8010, 6117.10.6010, 6117.20.9010, 6203.22.1000, 6204.22.1000, 6212.90.0010, 6214.90.0010, 6406.99.1550, 6505.90.1525, 6505.90.1540, 6505.90.2060 and 6505.90.2545.
⁹ Category 459-W: only HTS number 6505.90.4090.
¹⁰ Category 459pt.: all HTS numbers except 6505.90.4090 (Category 459-W); 6115.19.8020, 6117.10.1000, 6117.10.2010, 6117.20.9020, 6212.90.0020, 6214.20.0000, 6405.20.6030, 6405.20.6060, 6405.20.6090, 6406.99.1505, 6406.99.1560.
¹¹ Category 631pt.: all HTS numbers except 6116.10.1730, 6116.10.4820, 6116.10.5520, 6116.10.7520, 6116.93.8800, 6116.93.9400, 6116.99.4800, 6116.99.5400 and 6116.99.9530.
¹² Category 659-H: only HTS numbers 6502.00.9030, 6504.00.9015, 6504.00.9060, 6505.90.5090, 6505.90.6090, 6505.90.7090 and 6505.90.8090.
¹³ Category 659-S: only HTS numbers 6112.31.0010, 6112.31.0020, 6112.41.0010, 6112.41.0020, 6112.41.0030, 6112.41.0040, 6211.11.1010, 6211.11.1020, 6211.12.1010 and 6211.12.1020.
¹⁴ Category 659pt.: all HTS numbers except 6502.00.9030, 6504.00.9015, 6504.00.9060, 6505.90.5090, 6505.90.6090, 6505.90.7090, 6505.90.8090 (Category 659-H); 6112.31.0010, 6112.31.0020, 6112.41.0010, 6112.41.0020, 6112.41.0030, 6112.41.0040, 6211.11.1010, 6211.11.1020, 6211.12.1010, 6211.12.1020 (Category 659-S); 6115.11.0010, 6115.12.2000, 6117.10.2030, 6117.20.9030, 6212.90.0030, 6214.30.0000, 6214.40.0000, 6406.99.1510 and 6406.99.1540.
¹⁵ Category 340-D: only HTS numbers 6205.20.2015, 6205.20.2020, 6205.20.2025 and 6205.20.2030.
¹⁶ Category 640-D: only HTS numbers 6205.30.2010, 6205.30.2020, 6205.30.2030, 6205.30.2040, 6205.90.3030 and 6205.90.4030.
¹⁷ 640-O: only HTS numbers 6203.23.0080, 6203.29.2050, 6205.30.1000, 6205.30.2050, 6205.30.2060, 6205.30.2070, 6205.30.2080 and 6211.33.0040.
¹⁸ Category 641-Y: only HTS numbers 6204.23.0050, 6204.29.2030, 6206.40.3010 and 6206.40.3025.

The limits set forth above are subject to adjustment pursuant to the provisions of the ATC and administrative arrangements notified to the Textiles Monitoring Body.

Products in the above categories exported during 2002 shall be charged to the applicable category limits for that year (see directive dated November 23, 2001) to the extent of any unfilled balances. In the event the limits established for that period have been exhausted by previous entries, such products shall be charged to the limits set forth in this directive.

The conversion factors for the following merged categories are listed below:

Category | Conversion factor (Square meters equivalent/category unit)
333/334/335 | 33.75
633/634/635 | 34.1
638/639 | 12.96

In carrying out the above directions, the Commissioner of Customs should construe entry into the United States for consumption to include entry for consumption into the Commonwealth of Puerto Rico.

The Committee for the Implementation of Textile Agreements has determined that these actions fall within the foreign affairs exception of the rulemaking provisions of 5 U.S.C. 553(a)(1).

Sincerely,

James C. Leonard III,

Chairman, Committee for the Implementation of Textile Agreements.

[FR Doc. 02-26145 Filed 10-11-02; 8:45 am]

BILLING CODE 3510-DR-S